DEPARTMENT OF COMMERCE

Foreign-Trade Zones Board

[B-29-2015]

Foreign-Trade Zone (FTZ) 148—Knoxville, Tennessee; Authorization of Production Activity, CoLinx, LLC (Bearing Units), Crossville, Tennessee

On April 29, 2015, the Industrial Development Board of Blount County and the Cities of Alcoa and Maryville, Tennessee, grantee of FTZ 148, submitted a notification of proposed production activity to the FTZ Board on behalf of CoLinx, LLC, within Sites 2 and 6, in Crossville, Tennessee.

The notification was processed in accordance with the regulations of the FTZ Board (15 CFR part 400), including notice in the Federal Register inviting public comment (80 FR 26539, 5-8-2015). The FTZ Board has determined that no further review of the activity is warranted at this time. The production activity described in the notification is authorized, subject to the FTZ Act and the Board's regulations, including Section 400.14.

Dated: August 27, 2015.
Andrew McGilvray,
Executive Secretary.

[FR Doc. 2015-21655 Filed 8-31-15; 8:45 am]

BILLING CODE 3510-DS-P